DEPARTMENT OF TRANSPORTATION

Federal Aviation Administration

14 CFR Part 39

[Docket No. FAA-2013-0980; Directorate Identifier 2013-NM-129-AD]

RIN 2120-AA64

Airworthiness Directives; EADS CASA (Type Certificate Previously Held by Construcciones Aeronauticas, S.A.) Airplanes

AGENCY: Federal Aviation Administration (FAA), DOT.

ACTION: Notice of proposed rulemaking (NPRM).

SUMMARY: We propose to adopt a new airworthiness directive (AD) for certain EADS CASA (Type Certificate Previously Held by Construcciones Aeronauticas, S.A.) Model CN-235-300 airplanes. This proposed AD was prompted by reports of reduced thickness of the center fuselage lower skin panel. This proposed AD would require a detailed inspection to determine the presence of panel thickness reduction, and repetitive nondestructive testing (NDT) inspections and repair if necessary. We are proposing this AD to detect and correct a reduced thickness of lower panel joints, which could result in reduced fatigue and damage tolerant characteristics of the lower panel joint to the adjacent side panels and lead to failure of the center fuselage lower skin panel, resulting in loss of control of the airplane.

DATES: We must receive comments on this proposed AD by January 23, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between9 a.m. and 5 p.m., Monday through Friday, except Federal holidays.

For service information identified in this proposed AD, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net. You may view this referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Shahram Daneshmandi, Aerospace Engineer, International Branch, ANM-116, Transport Airplane Directorate, FAA, 1601 Lind Avenue SW., Renton, Washington 98057-3356; telephone (425) 227-1112; fax (425) 227-1149.

SUPPLEMENTARY INFORMATION:

Comments Invited

We invite you to send any written relevant data, views, or arguments about this proposed AD. Send your comments to an address listed under the ADDRESSES section. Include “Docket No. FAA-2013-0980; Directorate Identifier 2013-NM-129-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2013-0131, dated June 25, 2013 (referred to after this as the Mandatory Continuing Airworthiness Information, or “the MCAI”), to correct an unsafe condition for the specified products. The MCAI states:

During delivery of a spare centre fuselage lower skin panel to a CN-235 aeroplane operator, a reduced thickness of the spare panel was identified. The affected panel is used as the lower part of the fuselage between Frame (FR) FR13 and FR21, and from Stringer (STR) 24 left hand (LH) side to STR24 right hand (RH) side. Several CN-235 aeroplanes could have been delivered with a reduced thickness panel.

This condition, if not detected and corrected, could result in reduced fatigue and damage tolerant characteristics of the lower panel joint to the adjacent side panels and lead to failure of the part.

To address this potentially unsafe condition, EADS-CASA issued All Operator Letter (AOL) 235-024 to provide instructions to determine correct centre fuselage lower panel configuration by accomplishing a detailed visual inspection (DVI) of affected fuselage area [for any cracking].

For the reason described above, this [EASA] AD requires a one-time inspection of the affected panel thickness at STR24 LH and STR24 RH. In case a nonconforming panel is found to be installed, this [EASA] AD requires repetitive Non Destructive Testing (NDT) inspections and, depending on findings, the accomplishment of applicable corrective action(s).

You may examine the MCAI in the AD docket on the Internet at http://www.regulations.gov by searching for and locating it in Docket No. FAA-2013-0980.

Relevant Service Information

EADS CASA (Type Certificate Previously Held by Construcciones Aeronauticas, S.A.) has issued EADS CASA All Operator Letter 235-024, Revision 01, dated March 1, 2013. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a manufacturer Design Approval Holder (DAH) as a method of compliance with this provision in FAA ADs. Frequently, in these cases, the previously approved repair instructions come from the airplane structural repair manual or Airbus the DAH repair approval statements (RAS) that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, this proposed AD would require that the repair approval specifically refer to the FAA AD. This change is intended to clarify the method of compliance and to provide operators with better visibility of repairs that are specifically developed and approved to correct the unsafe condition. In addition, we use the phrase “its delegated agent, or the DAH with State of Design Authority design organization approval, as applicable” in this proposed AD to refer to an organization DAH authorized to approve required repairs for this proposed AD.

Costs of Compliance

We estimate that this proposed AD affects 20 airplanes of U.S. registry. We estimate the following costs to comply with this proposed AD:

Estimated costs
Action | Labor cost | Parts cost | Cost per product | Cost on U.S. operators
Detailed visual inspection | 1 work-hour × $85 per hour = $85 | N/A | $85 | $1,700.
NDT inspections | 19 work-hours × $85 per hour = $1,615 per inspection cycle | N/A | $1,615 per inspection cycle | $32,300 per inspection cycle.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

EADS CASA (Type Certificate Previously Held by Construcciones Aeronauticas, S.A.): Docket No. FAA-2013-0980; Directorate Identifier 2013-NM-129-AD.

(a) Comments Due Date

We must receive comments by January 23, 2014.

(b) Affected ADs

None.

(c) Applicability

This AD applies to EADS CASA (Type Certificate previously held by Construcciones Aeronauticas, S.A.) Model CN-235-300 airplanes, certificated in any category, manufacturer serial numbers (MSN) C-143 through C-208, inclusive.

(d) Subject

Air Transport Association (ATA) of America Code 53, Fuselage.

(e) Reason

This AD was prompted by reports of reduced thickness of the center fuselage lower skin panel. We are issuing this AD to detect and correct a reduced thickness of lower panel joints, which could result in reduced fatigue and damage tolerant characteristics of the lower panel joint to the adjacent side panels and lead to failure of the center fuselage lower skin panel, resulting in loss of control of the airplane.

(f) Compliance

Comply with this AD within the compliance times specified, unless already done.

(g) Detailed Visual Inspection

For airplanes having MSNs C-143 through C-195 inclusive, C-201, and C-202: At the applicable time specified in paragraph (g)(1) or (g)(2) of this AD, do a detailed inspection to determine the presence of panel thickness reduction of the lower panel joint with the side panels at stringer (STR)24 left-hand and STR24 right-hand, in accordance with EADS CASA All Operator Letter (AOL) 235-024, Revision 01, dated March 1, 2013.

(1) For airplane versions CG01, CL04, ED01, GC01, MM01, and SM01: At the later of the times specified in paragraphs (g)(1)(i) and (g)(1)(ii) of this AD.

(i) Before the accumulation of 1,900 total flight cycles.

(ii) Within 10 flight cycles or 30 days after the effective date of this AD, whichever occurs first.

(2) For any airplane version not identified in paragraph (g)(1) of this AD: At the later of the times specified in paragraphs (g)(2)(i) and (g)(2)(ii) of this AD.

(i) Before the accumulation of 3,800 total flight cycles.

(ii) Within 10 flight cycles or 30 days after the effective date of this AD, whichever occurs first.

(h) Repetitive Non Destructive Test (NDT)

(1) For airplanes having MSNs C-196 through C-200 inclusive and C-203 through C-208 inclusive, and for airplanes with a reduced panel thickness identified during the inspection required by paragraph (g) of this AD: At the applicable time specified in paragraph (g)(1)(i) of this AD (for airplanes identified in paragraph (g)(1) of this AD), or paragraph (g)(2)(i) of this AD (for airplanes identified in paragraph (g)(2) of this AD), or within 50 flight cycles after the effective date of this AD, whichever occurs later, do a NDT inspection for cracking, in accordance with EADS CASA AOL 235-024, Revision 01, dated March 1, 2013. Repeat the inspection thereafter at the applicable time specified in paragraph (h)(1)(i) or (h)(1)(ii) of this AD.

(i) For airplane versions CG01, CL04, ED01, GC01, MM01, and SM01: At intervals not to exceed 1,000 flight cycles.

(ii) For airplane versions other than those identified in paragraph (h)(1)(i) of this AD: At intervals not to exceed 2,000 flight cycles.

(2) If any cracking is detected during the inspection required by paragraph (h)(1) of this AD, before further flight, repair using a method approved by the Manager, International Branch, ANM-116, Transport Airplane Directorate, FAA; or the European Aviation Safety Agency (EASA) (or its delegated agent, or the Design Approval Holder with EASA design organization approval). For a repair method to be approved, the repair approval must specifically refer to this AD.

(i) Credit for Previous Actions

This paragraph provides credit for the inspections required by paragraphs (g) and (h) of this AD if those actions were performed before the effective date of this AD using EADS CASA AOL 235-024, dated February 12, 2013.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, Washington 98057-3356; telephone (425) 227-1112; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the Design Approval Holder with a State of Design Authority's design organization approval). For a repair method to be approved, the repair approval must specifically refer to this AD. You are required to ensure the product is airworthy before it is returned to service.

(k) Related Information

(1) Refer to Mandatory Continuing Airworthiness Information European Aviation Safety Agency Airworthiness Directive 2013-0131, dated June 25, 2013, for related information. This MCAI may be found in the AD docket on the Internet at http://www.regulations.gov by searching for and locating it in Docket No. FAA-2013-0980.

(2) For service information identified in this AD, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net. You may view this referenced service information at the FAA, Transport Airplane Directorate, 1601 Lind Avenue SW., Renton, Washington. For information on the availability of this material at the FAA, call 425-227-1221.

Issued in Renton, Washington, on December 2, 2013.
John P. Piccola,
Acting Manager, Transport Airplane Directorate, Aircraft Certification Service.

[FR Doc. 2013-29320 Filed 12-6-13; 8:45 am]

BILLING CODE 4910-13-P